FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Air Sea America, Inc. (NVO), 18220 80th Place South, Kent, WA 98032, Officers: Donald W. Jay, President, (Qualifying Individual), Steve C. Spencer, Vice President, Application Type: License Transfer.

Albermarle Ocean Logistics LLC (OFF), 257 Bingham Road, South Mills, NC 27976, Officer: Donna J. Freeman, Member, (Qualifying Individual), Application Type: New OFF License.

B.D.G. International, Inc. dba Seagull Express Lines (OFF & NVO), 840 Tollgate Road, Elgin, IL 60124, Officers: Lisa V. Walter, Vice President/Secretary, (Qualifying Individual), Bengt R. Anderson, President, Application Type: QI Change.

Cargomar Express, Inc. (OFF & NVO), 6713 NW. 84th Avenue, Miami, FL 33166, Officer: Lainder Araujo, President/Secretary, (Qualifying Individual), Application Type: New OFF & NVO License.

InterLogic, Inc. (NVO), 2059 Belgrave Avenue, Huntington Park, CA 90255, Officer: Ivan I. Gerdzhikov, President/Secretary/Treasurer, (Qualifying Individual), Application Type: New NVO License.

HD Intercargo, Inc. (NVO), 822 SW. 17th Avenue, Miami, FL 33135, Officers: Karen Duarte, Secretary, (Qualifying Individual), Herbeth F. Durarte, President, Application Type: License Transfer.

Kings International Group Inc. dba KIG Solutions (NVO), 2027 Wollam Street, Los Angeles, CA 90065, Officer: Jeff Q. Su, President/Treasurer/Secretary, (Qualifying Individual), Application Type: New NVO License.

M-Pact Solutions LLC (OFF & NVO), 4294 Swinnea Road, Memphis, TN 38118, Officer: W. Neely Mallory, III, Manager, (Qualifying Individual), Application Type: License Transfer.

S.F. Systems (Group) Ltd. (NVO), 20539 Walnut Drive, Suite F, Walnut, CA 91789, Officers: Ting H. Ho, Secretary, (Qualifying Individual), Fan Ho, CEO/CFO Application Type: QI Change.

Tradewings USA Corp. (OFF & NVO), 6301 E. 10th Avenue, Hialeah, FL 33013, Officers: Marjorie E. Morales, Operation & Customer Service Manager, (Qualifying Individual), Ian M. Taylor, President, Application Type: New OFF & NVO License.

Dated: June 4, 2010.
Karen V. Gregory,
Secretary.

[FR Doc. 2010-13889 Filed 6-8-10; 8:45 am]

BILLING CODE 6730-01-P